DEPARTMENT OF TRANSPORTATION

Federal Aviation Administration

14 CFR Part 39

[Docket No. 2000-CE-52-AD; Amendment 39-11869; AD 2000-16-51]

RIN 2120-AA64

Airworthiness Directives; Wytwornia Sprzetu Model PZL-104 Wilga 80 Airplanes

ACTION: Final rule; request for comments.

SUMMARY: This document publishes in the Federal Register an amendment adopting emergency Airworthiness Directive (AD) 2000-16-51. The Federal Aviation Administration (FAA) previously sent emergency AD 2000-16-51 to all known U.S. owners and operators of Wytwornia Sprzetu Komunikacyjnego (PZL “Warszawa-Okecie”) Model PZL-104 Wilga 80 airplanes. This AD requires you to repetitively replace the front tailplane to fuselage joint connector and bushing. This AD is the result of an incident report where the pin that fastens the tailplane to the fuselage fractured and separated on an airplane of similar design to that of the affected airplanes. The actions specified by this AD are intended to prevent failure of the front tailplane to fuselage joint connector, which could result in loss of control of the airplane if the tailplane and fuselage become disconnected during flight.

DATES: The AD becomes effective on August 21, 2000, to all affected persons who did not receive emergency AD 2000-16-51, issued August 2, 2000. Emergency AD 2000-16-51 contained the requirements of this amendment and became effective immediately upon receipt.

The Director of the Federal Register approved the incorporation by reference of certain publications listed in the regulation as of August 21, 2000.

The FAA must receive any comments on this rule on or before September 8, 2000.

ADDRESSES: Submit comments in triplicate to FAA, Central Region, Office of the Regional Counsel, Attention: Rules Docket No. 2000-CE-52-AD, 901 Locust, Room 506, Kansas City, Missouri 64106. You may read comments and information related to this AD at this location between 8 a.m. and 4 p.m., Monday through Friday, except holidays.

You may get the service information referenced in this AD from Wytwornia Sprzetu Komunikacyjnego, PZL Warzawa-Okecie, AL. Krakowska 110/114, 00-973 Warsaw, Poland. You may examine this information at FAA, Central Region, Office of the Regional Counsel, Attention: Rules Docket No. 2000-CE-52-AD, 901 Locust, Room 506, Kansas City, Missouri 64106; or at the Office of the Federal Register, 800 North Capitol Street, NW, suite 700, Washington, DC.

FOR FURTHER INFORMATION CONTACT: Mr. Roman T. Gabrys, Aerospace Engineer, FAA, Small Airplane Directorate, 901 Locust, Room 301, Kansas City, Missouri 64106; telephone: (816) 329-4141; facsimile: (816) 329-4090.

SUPPLEMENTARY INFORMATION:

Discussion

What has happened so far? The General Inspectorate of Civil Aviation (GICA), which is the airworthiness authority for Poland, recently advised FAA of an unsafe condition that could exist or develop on certain PZL “Warszawa-Okecie” Model PZL-104 Wilga 80 airplanes. The GICA reported that the pin that fastens the tailplane to the fuselage fractured and separated on a Model PZL-104 Wilga 35 airplane. The incident occurred during a ground run of the engine.

The Model PZL-104 Wilga 35 airplane is an earlier version of the Model PZL-104 Wilga 80 airplane. Type Certificate A55EU includes the Model PZL-104 Wilga 80 airplane. No U.S. type certificate covers the Model PZL-104 Wilga 35 airplanes.

The incident airplane incorporated the following parts:

• A PZL “Warszawa-Okecie” part number (P/N) CE360050 front tailplane to fuselage joint; and

• A PZL “Warszawa-Okecie” P/N CE360051 connector (pin) to the front tailplane to fuselage joint.

PZL “Warszawa-Okecie” issued Mandatory Service Bulletin No. 10400030, dated June 26, 2000. This service bulletin includes procedures for replacing the front tailplane to fuselage joint connector and bushing with the following:

• A PZL “Warszawa-Okecie” P/N CE360071 front tailplane to fuselage joint connector; and

• A PZL “Warszawa-Okecie” P/N CE360072 front tailplane to fuselage joint connector bushing.

The GICA classified this service bulletin as mandatory and issued Polish AD No. SP-0064-2000-A, dated June 27, 2000, in order to assure the continued airworthiness of these airplanes in Poland.

These airplane models are manufactured in Poland and are type certificated for operation in the United States under the provisions of section 21.29 of the Federal Aviation Regulations (14 CFR 21.29) and the applicable bilateral airworthiness agreement. Pursuant to this bilateral airworthiness agreement, the GICA has kept the FAA informed of the situation described above.

On August 2, FAA issued emergency AD 2000-16-51. This AD required that the actions and procedures in PZL “Warszawa-Okecie” Mandatory Service Bulletin No. 10400030, dated June 26, 2000, be incorporated on “Warszawa-Okecie” Model PZL-104 Wilga 80 airplanes, all serial numbers up to and including CF 21950963.

Why is it important to publish this AD? When issuing emergency AD 2000-16-51, we found that (1) immediate corrective action was required; (2) notice and opportunity for prior public comment were impracticable and contrary to the public interest; and (3) good cause existed to make the AD effective immediately by individual letters issued on August 2, 2000, to all known U.S. operators of PZL “Warszawa-Okecie” Model PZL-104 Wilga 80 airplanes, all serial numbers up to and including CF 21950963. These conditions still exist, and the AD is published in the Federal Register as an amendment to section 39.13 of the Federal Aviation Regulations (14 CFR 39.13) to make it effective as to all persons.

Comments Invited

How do I comment on this AD? Although this action is in the form of a final rule and was not preceded by notice and opportunity for public comment, FAA invites comments on this rule. You may submit whatever written data, views, or arguments you choose. You need to include the rule's docket number and submit your comments in triplicate to the address specified under the caption ADDRESSES. We will consider all comments received on or before the closing date specified above. We may amend this rule in light of comments received.

Are there any specific portions of the AD I should pay attention to? The FAA specifically invites comments on the overall regulatory, economic, environmental, and energy aspects of the rule that might suggest a need to modify the rule. You may examine all comments we receive in the Rules Docket. We will file a report in the Rules Docket that summarizes each FAA contact with the public that concerns the substantive parts of this AD.

The FAA is reviewing the writing style we currently use in regulatory documents, in response to the Presidential memorandum of June 1, 1998. That memorandum requires federal agencies to communicate more clearly with the public. We are interested in your comments on the ease of understanding this document, and any other suggestions you might have to improve the clarity of FAA communications that affect you. You can get more information about the Presidential memorandum and the plain language initiative at http://www.faa.gov/language/.

How can I be sure the FAA receives my comment? If you want us to acknowledge the receipt of your comments, you must include a self-addressed, stamped postcard. On the postcard, write “Comments to Docket No. 2000-CE-52-AD.” We will date stamp and mail the postcard back to you.

Regulatory Impact

Does this AD impact relations between Federal and State governments? These regulations will not have a substantial direct effect on the States, on the relationship between the national Government and the States, or on the distribution of power and responsibilities among the various levels of government. The FAA has determined that this final rule does not have federalism implications under Executive Order 13132.

Does this action involve an emergency situation? The FAA determined that this is an emergency regulation that must be issued immediately to correct an unsafe condition in aircraft, and is not a significant regulatory action under Executive Order 12866. This action involves an emergency regulation under Department of Transportation (DOT) Regulatory Policies and Procedures (44 FR 11034, February 26, 1979). The FAA will prepare a final regulatory evaluation if we determine that this emergency regulation is significant under DOT Regulatory Policies and Procedures. You may obtain a copy of the evaluation (if required) from the Rules Docket.

List of Subjects in 14 CFR Part 39

Air transportation, Aircraft, Aviation safety, Incorporation by reference, Safety.

Adoption of the Amendment

Under the authority delegated to me by the Administrator, the Federal Aviation Administration (FAA) amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

2000-16-51 Wytwornia Sprzetu Komunikacyjnego (PZL “Warszawa-Okecie”): Amendment 39-11869; Docket No. 2000-CE-52-AD.

(a) What airplanes are affected by this AD? This AD applies to any Model PZL-104 Wilga 80 airplane that:

(1) incorporates a serial number in the range of “up to and including CF 21950963”;

(2) incorporates a PZL “Warszawa-Okecie” part number (P/N) CE360050 front tailplane to fuselage joint (or FAA-approved equivalent part number); and

(3) is certificated in any category.

(b) When does this AD become effective? This AD becomes effective August 21, 2000, to all affected persons who did not receive emergency AD 2000-16-51, issued August 2, 2000. Emergency AD 2000-16-51 contained the requirements of this amendment and became effective immediately upon receipt.

(c) Who must comply with this AD? Anyone who wishes to operate any of the above airplanes on the U.S. Register must comply with this AD.

(d) What problem does this AD address? This AD is intended to prevent failure of the front tailplane to fuselage joint connector, which could result in loss of control of the airplane if the tailplane and fuselage become disconnected during flight.

(e) What actions must I accomplish to address this problem? To address this problem, you must accomplish the following:

Action | When | Procedures
(1) Replace the front tailplane to fuselage joint connector and bushing wit the following: (i) a PZL “Warszawa-Okecie” P/N CE360071 front tailplane to fuselage joint connector; and (ii) a PZL “Warszawa-Okecie” P/N CE360072 front tailplane to fuselage joint connector bushing | Prior to further flight after the effective date of this AD. | Accomplish this replacement in accordance with the procedures in PZL “Warszawa-Okecie” Mandatory Service Bulletin No. 10400030, dated June 26, 2000.
(2) Repetitively replace the parts specified in paragraph (e)(1)(i) and (e)(1)(ii) of this AD | Within 650 hours time-in-service (TIS) after installing these parts and thereafter at intervals not to exceed 650 hours TIS | Accomplish these replacements in accordance with the procedures in PZL “Warszawa-Okecie” Mandatory Service Bulletin No. 10400030, dated June 26, 2000.
(3) Do not install a PZL “Warszawa-Okecie” P/N CE360050 front tailplane to fuselage joint without accomplishing the repalcements in paragraph (e)(1) of this AD | As of the effective date of this AD | Not applicable.

(f) Can I comply with this AD in any other way? You may use an alternative method of compliance or adjust the compliance time if:

(1) Your alternative method of compliance provides an equivalent level of safety; and

(2) The Manager, Small Airplane Directorate approves your alternative. Submit your request through an FAA Principal Maintenance Inspector, who may add comments and then send it to the Manager, Small Airplane Directorate, 901 Locust, Room 301, Kansas City, Missouri 64106.

Note 1: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (f) of this AD. You should include in the request an assessment of the effect of the modification, alteration, or repair on the unsafe condition addressed by this AD; and, if you have not eliminated the unsafe condition, specific actions you propose to address it.

(g) Where can I get information about any already-approved alternative methods of compliance? You can contact Mr. Roman T. Gabrys, Aerospace Engineer, FAA, Small Airplane Directorate, 901 Locust, Room 301, Kansas City, Missouri 64106; telephone: (816) 329-4141; facsimile: (816) 329-4090.

(h) Are any service bulletins incorporated into this AD by reference? Actions required by this AD must be done in accordance with PZL “Warszawa-Okecie” Mandatory Service Bulletin No. 10400030, dated June 26, 2000. The Director of the Federal Register approved this incorporation by reference under 5 U.S.C. 552(a) and 1 CFR part 51. You may get copies of this document from Wytwornia Sprzetu Komunikacyjnego, PZL Warzawa-Okecie, AL. Krakowska 110/114, 00-973 Warsaw, Poland. You may look at copies at FAA, Central Region, Office of the Regional Counsel, 901 Locust, Room 506, Kansas City, Missouri, or at the Office of the Federal Register, 800 North Capitol Street, NW, suite 700, Washington, DC.

Note 2: The subject of this AD is addressed in Polish AD No. SP-0064-2000-A, dated June 27, 2000.

Issued in Kansas City, Missouri, on August 7, 2000.
Michael Gallagher,
Manager, Small Airplane Directorate, Aircraft Certification Service.

[FR Doc. 00-20777 Filed 8-18-00; 8:45 am]

BILLING CODE 4910-13-U